DEPARTMENT OF HEALTH AND HUMAN SERVICES

National Institutes of Health

Center for Scientific Review Amended Notice of Meeting

Notice is hereby given of a change in the meeting of the Center for Scientific Review Special Emphasis Panel, PAR19-232: NIGMS Mature Synchrotron Resources for Structural Biology (P30), April 2, 2020, 8:00 a.m. to 8:00 p.m., Embassy Suites at the Chevy Chase Pavilion, 4300 Military Road NW, Washington, DC 20015, which was published in the Federal Register on March 10, 2020, 85 FR 13909.

The meeting will be held at National Institutes of Health, 6701 Rockledge Drive, Bethesda, MD 20892 from 10 a.m. to 7:00 p.m. The date remains the same. The meeting is closed to the public.

Dated: March 11, 2020.
Ronald J. Livingston, Jr.,
Program Analyst, Office of Federal Advisory Committee Policy.

[FR Doc. 2020-05409 Filed 3-16-20; 8:45 am]

BILLING CODE 4140-01-P